DEPARTMENT OF LABOR

Pension and Welfare Beneifts Administration

Working Group on Phased Retirement; Advisory Council on Employee Welfare and Pension Benefits Plans, Notice of Meeting

Pursuant to the authority contained in section 512 of the Employee Retirement Income Security Act of 1974 (ERISA), 29 U.S.C. 1142, the Working Group assigned by the Advisory Council on Employee Welfare and Pension Benefit Plans to study the issue of phased retirement with hold an open public meeting on Monday, July 17, 2000, in Room N-5437 A-D, U.S. Department of Labor, Second and Constitution Avenue, NW., Washington, DC 20210.

The purpose of the open meeting, which will run from 9:30 a.m. to approximately noon, is for Working Group members to hear testimony regarding macroeconomic trends on workforce availability, experience with phased retirement programs and regulations concerning implementation of phased retirement plans.

Members of the public are encouraged to file a written statement pertaining to the topic by submitting 20 copies on or before July 10, 2000, to Sharon Morrissey, Executive Secretary, ERISA Advisory Council, U.S. Department of Labor, Room N-5677, 200 Constitution Avenue, NW, Washington, DC 20210. Individuals or representatives of organizations wishing to address the Working Group should forward their request to the Executive Secretary or telephone (202) 219-8753. Oral presentations will be limited to 10 minutes, but an extended statement may be submitted for the record. Individuals with disabilities, who need special accommodations, should contact Sharon Morrissey by July 10, at the address indicated in this notice.

Organizations or individuals may also submit statements for the record without testifying. Twenty (20) copies of such statements should be sent to the Executive Secretary of the Advisory Council at the above address. Papers will be accepted and included in the record of the meeting if received on or before July 10.

Signed at Washington, DC this 12th day of June 2000.
Leslie B. Kramerich,
Acting Assistant Secretary, Pension and Welfare Benefits Administration.

[FR Doc. 00-15148 Filed 6-14-00; 8:45 am]

BILLING CODE 4510-29-M